DEPARTMENT OF TRANSPORTATION

Federal Highway Administration

Tiered Environmental Impact Statement: Sandoval County and Bernalillo County, New Mexico

AGENCY: Federal Highway Administration (FHWA), USDOT.

ACTION: Notice of intent.

SUMMARY: The FHWA is issuing this notice to advise the public and other agencies that a tiered environmental impact statement will be prepared for a proposed transportation corridor in Sandoval County and Bernalillo County, New Mexico. The objective of the tiered EIS is to evaluate right-of-way preservation for the proposed corridor.

FOR FURTHER INFORMATION CONTACT: Nicholas Finch, District Engineer, Federal Highway Administration, New Mexico Division, 4001 Office Court Drive, Suite 801, Santa Fe, New Mexico 87507, Telephone (505) 820-2039; or, Phillip Rios, Sandoval County Public Works Director, Box 40, Bernalillo, New Mexico 87004, Telephone (505) 771-3312.

SUPPLEMENTARY INFORMATION: The FHWA, in cooperation with the New Mexico Department of Transportation (NMDOT) and Sandoval County, will prepare a tiered environmental impact statement (tiered EIS) to preserve right-of-way for a proposed transportation corridor located in Sandoval County and Bernalillo County, New Mexico. The purpose of the tiered EIS is to determine the alignment and right-of-way needs and to evaluate impacts to the natural and human environment for a future transportation corridor that would connect Interstate 40 and U.S. 550 west of the Albuquerque metropolitan area. The proposed corridor would begin near milepost 142 on Interstate 40. From its start at I-40, the proposed roadway would extend in a northerly direction for approximately 23 miles. At this point, the route would turn in an easterly direction and continue to its terminus at U.S. 550 near milepost 7.2. The total length of the proposed corridor is approximately 39 miles.

The purpose of first tier EIS is limited to establishing the alignment and right-of-way boundaries for the proposed corridor. It is not intended to authorize construction of a new roadway or any portion thereof. Authorization for construction will require the preparation of second tier environmental documents.

The proposed transportation corridor is considered necessary to provide future roadways and other transportation infrastructure that will help facilitate orderly growth and development and access to areas within Bernalillo County and Sandoval County planned for development. In the longer term, the proposed transportation corridor will also provide a safe and efficient outer beltway for the expanding Albuquerque and Rio Rancho metropolitan area. Alternatives under consideration include: (1) Taking no action; and, (2) various centerline alignment alternatives.

Letters describing the proposed action and requesting comments will be sent to appropriate federal, state, and local agencies, and to private organizations and individuals who have previously expressed, or are known to have an interest, in the proposed action. A scoping meeting(s) will be scheduled in early February 2009. Agencies and other potential stakeholders having a likely interest in the proposed project will be informed of the scoping meeting by letter and by notices published in local and regional newspapers.

A notice of intent to prepare a tiered EIS will be published in local newspapers in January 2008. The local notice will describe the proposed action and the intent of FHWA, NMDOT, and Sandoval County to prepare an environmental impact statement. It will also request comments from the public on issues of interest and concern and on alternatives to be considered.

To ensure that the full range of issues related to the proposed action are addressed and all significant issues are identified, comments, suggestions, and questions are invited from all interested parties. Comments, questions, and suggestions about the proposed action and the EIS should be sent to the FHWA at the address provided above.

(Catalog of Federal Domestic Assistance Program Number 20.205, Highway Planning and Construction. The regulations implementing Executive Order 12372 regarding intergovernmental consultation on Federal programs and activities apply to this program.)

Issued on January 12, 2009.
J. Don Martinez,
Division Administrator, Federal Highway Administration, Santa Fe, New Mexico.

[FR Doc. E9-913 Filed 1-15-09; 8:45 am]

BILLING CODE 4910-22-P